DEPARTMENT OF COMMERCE

National Institute of Standards and Technology

National Artificial Intelligence Advisory Committee

AGENCY: National Institute of Standards and Technology, Department of Commerce.

ACTION: Notice of open meeting.

SUMMARY: The National Institute of Standards and Technology (NIST) announces that the National Artificial Intelligence Advisory Committee (NAIAC or Committee) will meet via web conference on Tuesday, April 16, 2024, from 2 p.m.-4:30 p.m. Eastern Time. The primary purpose of this meeting is to have invited guests brief the full Committee on topics of interest to the NAIAC's working groups. The briefings are from outside subject matter experts to the full Committee from areas such as industry, nonprofit organizations, the scientific community, the defense and law enforcement communities, and other appropriate organizations. The final agenda will be posted on the NIST website at https://www.nist.gov/itl/national-artificial-intelligence-advisory-committee-naiac.

DATES: The NAIAC will meet on Tuesday, April 16, 2024, from 2 p.m.-4:30 p.m. Eastern Time.

ADDRESSES: The meeting will be held via webinar. Please note participation instructions under the SUPPLEMENTARY INFORMATION section of this notice.

FOR FURTHER INFORMATION CONTACT: Cheryl L. Gendron, Designated Federal Officer, Information Technology Laboratory, National Institute of Standards and Technology, Telephone: (301) 975-2785, Email address: cheryl.gendron@nist.gov. Please direct any inquiries to the committee at naiac@nist.gov.

SUPPLEMENTARY INFORMATION: Pursuant to the Federal Advisory Committee Act, as amended, 5 U.S.C. 1001 et seq., notice is hereby given that the NAIAC will meet virtually as set forth in the DATES section of this notice. The meeting will be open to the public.

The NAIAC is authorized by Section 5104 of the National Artificial Intelligence Initiative Act of 2020 (Pub. L. 116-283), in accordance with the provisions of the Federal Advisory Committee Act, as amended (FACA), 5 U.S.C. 1001 et seq. The Committee advises the President and the National Artificial Intelligence Initiative Office on matters related to the National Artificial Intelligence Initiative. Additional information on the NAIAC is available at ai.gov/naiac/.

The primary purpose of this meeting is to have informational briefings organized by specific working groups of the NAIAC to the full Committee.

• The AI Futures—Preparedness, Opportunities, and Competitiveness Working Group of the NAIAC will host the “AI for Science panel”: This panel aims to solicit expert perspectives on leveraging artificial intelligence to advance scientific discovery across domains. It seeks to bring together academia and industry stakeholders to explore AI's role in overcoming complex obstacles and driving innovation.

• The AI in Work and the Workforce Working Group of the NAIAC will host the “AI Transition for Workers panel”: This panel will explore the building blocks of a just AI transition for American workers, ensuring people and communities have the information, networks, training, and skills, support meeting essential needs, and access to dignified and quality work to make ends meet and get ahead in an economy increasingly shaped by AI.

The agenda items may change to accommodate NAIAC business. The final agenda will be posted on the NIST website at https://www.nist.gov/itl/national-artificial-intelligence-advisory-committee-naiac.

Comments: Individuals and representatives of organizations who would like to offer comments and suggestions related to items on the Committee's agenda for this meeting are invited to submit comments in advance of the conference. Please note that all comments submitted via email will be treated as public documents and will be made available for public inspection. All comments must be submitted via email with the subject line “April 16, 2024, NAIAC Public Meeting” to naiac@nist.gov by 5 p.m. Eastern Time, April 15, 2024. NIST will not accept comments accompanied by a request that part or all of the comment be treated confidentially because of its business proprietary nature or for any other reason. Therefore, do not submit confidential business information or otherwise sensitive, protected, or personal information, such as account numbers, Social Security numbers, or names of other individuals.

Virtual Meeting Registration Instructions: The meeting will be broadcast via web conference. Registration is required to view the web conference. Instructions on how to register will be made available at https://www.nist.gov/itl/national-artificial-intelligence-advisory-committee-naiac. Registration will remain open until the conclusion of the meeting.

Alicia Chambers,
NIST Executive Secretariat.

[FR Doc. 2024-06173 Filed 3-22-24; 8:45 am]

BILLING CODE 3510-13-P